DEPARTMENT OF AGRICULTURE

Forest Service

Forest Service Manual 2360 for Heritage Program Management

AGENCY: Forest Service, USDA.

ACTION: Notice of availability of final directive.

SUMMARY: The Forest Service is issuing a new directive to Forest Service Manual 2360 for Heritage Program Management. The Forest Service Manual for the Heritage Program was last amended in 1991. The new directive addresses laws, amendments, and Executive orders passed since 1991 and issues that are increasingly important to the Forest Service Heritage Program including increased Tribal coordination on a variety of issues from re-burial of human remains to tourism, growth of educational travel and heritage tourism, emphasis on use of historic properites, and increased theft of American antiquities.

The directive provides Heritage Program guidance to Forest Service land managers. It does not change management direction, but rather clarifies responsibilities, authorities, and internal procedures to improve the management and protection of cultural resources on National Forest System lands.

DATES: This directive is effective July 25, 2008.

ADDRESSES: The directive is available at http://www.fs.fed.us/cgi-bin/Directives/get_dirs/fsm?2300!. Single paper copies of the directive are also available by contacting April Thorne, Recreation and Heritage Resources (Mail Stop 1125), Forest Service, U.S. Department of Agriculture, 1400 Independence Ave., SW., Washington, DC 20250, telephone 202-205-3562.

FOR FURTHER INFORMATION CONTACT: Michael Kaczor, Federal Preservation Officer, Forest Service, U.S. Department of Agriculture, 201 14th Street, NW., Washington, DC 20250, e-mail: mkaczor@fs.fed.us, telephone 202-205-1427.

Individuals who use telecommunication devices for the deaf (TDD) may call the Federal Information Relay Service (FIRS) at 1-800-877-8339 between 8 a.m. and 8 p.m., Eastern Standard Time, Monday through Friday.

SUPPLEMENTARY INFORMATION: In addition to legislation and regulation passed prior to 1991, this directive incorporates laws, regulations, and Executive orders passed since 1991 that affect Heritage Program management, including:

1992—Amendments to the National Historic Preservation Act (NHPA).

2000—E.O. 13175—Consultation with Indian Tribal Governments.

2003—43 CFR 10—Native American Graves and Repatriation Regulations.

2003—E.O. 13287—Preserve America

2004—Amendments to the 36 CFR 800 regulations implementing the National Historic Preservation Act.

2004—E.O. 13327—Federal Real Property Asset Management.

2004—Federal Lands Recreation Enhancement Act.

2005—Forest Service Facility Realignment and Enhancement Act.

Goals of FSM 2360—Heritage Program Management

The goals of the updated direction in Forest Service Manual 2360 are to:

1. Improve cultural resource stewardship on National Forest System lands.

2. Establish consistent Heritage program implementation across Forest Service units.

3. Increase efficiency in Heritage Program support to other Forest Service programs.

4. Improve and expand Forest Service partnerships with the public and with Indian tribal communities in the interest of historic preservation.

5. Improve and expand the delivery of Heritage programs and products to the American public.

FSM 2360 Sections

2361—Consultation and Coordination describes consultation and coordination with State, Tribal, and local governments, other Federal agencies, and the public in all facets of Heritage Program management.

2362—Planning includes guidance on the integration of heritage issues in agency planning efforts and development of management plans for the Heritage Program and for individual historic properties.

2363—Identification, Evaluation, and Allocation to Management Categories describes the process to identify cultural resources that are eligible for listing on the National Register of Historic Places and recommend management that protects the value of cultural resources and maximizes their benefit to the agency and the public.

2364—Protection and Stewardship describes requirements to protect cultural resources from environmental damage, effects of agency or agency-authorized undertakings, and illegal activity or unauthorized use. It provides guidance on conservation, study, and formal designations of historic properties.

2365—Public Education and Outreach provides guidelines for the delivery of heritage values to the public through the Forest Service Windows on the Past program.

2366—Management of Heritage Collections describes types of collections and curation standards.

2367—Permits, Agreements, and Contracts provides guidance for the issuance of permits, agreements, and contracts for Heritage Program work.

2368—Information Management and Reporting identifies the importance of maintaining up-to-date electronic data for the Heritage Program and explains confidentiality options for sensitive cultural resource information.

Dated: July 21, 2008.
Gloria Manning,
Associate Deputy Chief, National Forest System.

[FR Doc. E8-17111 Filed 7-24-08; 8:45 am]

BILLING CODE 3410-11-P